DEPARTMENT OF THE INTERIOR

Bureau of Land Management

[LLCA930000 L1440000.ET0000 17X; CACA 35558]

Public Land Order No. 7862; Extension of Public Land Order No. 7260, Red Rock Canyon State Park; California

AGENCY: Bureau of Land Management, Interior.

ACTION: Public Land Order (PLO).

SUMMARY: This PLO extends the duration of the withdrawal created by PLO No. 7260, which would otherwise expire on May 12, 2017, for an additional 20-year period. This extension is necessary to continue to protect the remaining 830.07 acres until the lands can be conveyed to the State of California for inclusion in Red Rock Canyon State Park.

DATES: This PLO is effective on May 12, 2017.

FOR FURTHER INFORMATION CONTACT: Deanne Kidd, BLM California State Office, 2800 Cottage Way, Sacramento, California 95825; dykidd@blm.gov; 916-978-4337. Persons who use a telecommunications device for the deaf (TDD) may call the Federal Relay Service (FRS) at 1-800-877-8339 to reach the above individual. The FRS is available 24 hours a day, 7 days a week, to leave a message or question with the above individual. You will receive a reply during normal business hours.

SUPPLEMENTAL INFORMATION: PLO No. 7260 withdrew 8,896 acres of public lands from all public land and mineral laws, except conveyances under Section 701 of the California Desert Protection Act (CDPA) of 1994, to protect the lands until they can be conveyed to the State of California for inclusion in Red Rock Canyon State Park. All of the lands except the 830.07 acres in this PLO have been conveyed to the State of California. The purpose for which the withdrawal was first made requires this extension in order to continue to protect the remaining lands until they can be conveyed.

Order

By virtue of the authority vested in the Secretary of the Interior by Section 204 of the Federal Land Policy and Management Act of 1976, 43 U.S.C. 1714, it is ordered as follows:

1. Subject to valid existing rights, PLO No. 7260 (62 FR 26324 (1997)), which withdrew public lands from settlement, sale, location, or entry under the general land laws, including the United States mining laws and the mineral leasing laws, but not from conveyance under Section 701 of the CDPA (108 Stat. 4471), is hereby extended for an additional 20-year period as to the following described lands:

Mount Diablo Meridian

T. 29 S., R. 38 E.,

Sec. 4, lot 1, SE¼NE¼, SW¼NE¼SE¼, SE¼NW¼SE¼, NE¼SW¼SE¼, and NW¼SE¼SE¼;

Sec. 5, S½SW¼NE¼, N½NE¼SW¼, SW¼NE¼SW¼, NW¼SW¼, NE¼SW¼SW¼, N½NW¼SE¼, and SE¼SE¼;

Sec. 7, lots 3 and 4, W½NE¼SW¼, and W½SE¼SW¼;

Sec. 8, NE¼NE¼, SW¼NE¼, and NW¼SE¼;

Sec. 18, lots 1 and 2;

Sec. 30, lots 4 and 6, N½NE¼, E½NW¼SW¼NE¼, E½SW¼SW¼NE¼, E½SW¼NE¼, W½SE¼NE¼, S½NE¼SW¼, and N½SE¼SW¼.

The areas described aggregate 830.07 acres in Kern County.

2. The withdrawal extended by this order will terminate automatically upon issuance of patent or expire on May 12, 2037, unless, as a result of a review conducted before the expiration date pursuant to Section 204(f) of the Federal Land Policy and Management Act of 1976, 43 U.S.C. 1714(f), the Secretary determines that the withdrawal shall be further extended.

Dated: May 12, 2017.
Ryan K. Zinke,
Secretary of the Interior.

[FR Doc. 2017-10357 Filed 5-19-17; 8:45 am]

BILLING CODE 4310-40-P